DEPARTMENT OF ENERGY

Federal Energy Regulatory Commission

[Docket No. CP06-26-000]

Dominion Cove Point LNG, L.P.; Notice of Intent To Prepare an Environmental Assessment for the Proposed Cove Point Air Separation Unit Project and Request for Comments on Environmental Issues

January 6, 2006.

The staff of the Federal Energy Regulatory Commission (FERC or Commission) will prepare an environmental assessment (EA) that will discuss the environmental impacts of the Cove Point Air Separation Unit Project involving construction and operation of facilities by Dominion Cove Point LNG, L.P. (Dominion) in Calvert County, Maryland. These facilities would consist of two air separation units, a liquid nitrogen storage tank, a gas turbine generator, a site rating generator and associated instrumentation and equipment at the existing Cove Point Liquefied Natural Gas (LNG) Terminal. This EA will be used by the Commission in its decision-making process to determine whether the project is in the public convenience and necessity.

This notice announces the opening of the scoping period that will be used to gather environmental input from the public and interested agencies on the project. Please note that the scoping period will close on February 6, 2006.

This notice is being sent to landowners within 0.5 mile of the project area; Federal, state, and local government representatives and agencies; environmental and public interest groups; Native American tribes; local libraries and newspapers in this proceeding. Government representatives are encouraged to notify their constituents of this proposal and advise them to comment on their areas of concern.

The purpose of the Project is to add facilities to the terminal that would increase the capability of the LNG import terminal to process high British Thermal Unit (BTU) content LNG in order to assure that the resulting natural gas meets the gas quality specifications. The proposed facilities would also enhance the reliability of service at the terminal and provide more flexibility to acquire and schedule cargoes of LNG from a wider variety of supply sources.

Dominion seeks authority to construct and operate:

• Two air separation units;

• One 62,825 gallon liquid nitrogen storage tank;

• Two electric substations and associated automation and electric facilities;

• One 20,500 horsepower (HP) International Standards Organization (ISO) rating Solar Titan simple cycle gas turbine generator;

• One 13,800 volt, 13.2 megawatt (MW) site rating generator;

• Fuel gas equipment and piping;

• Associated instrumentation; and

• Fiber optic and electrical duct banks.

All construction activities would take place within the existing Cove Point Terminal. No additional land would be required for construction.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this notice, the Commission staff requests public comments on the scope of the issues to address in the EA. All comments received are considered during the preparation of the EA. By this notice, we are also asking Federal, state, and local agencies with jurisdiction and/or special expertise with respect to environmental issues to formally cooperate with us in the preparation of the EA. Agencies that would like to request cooperating status should follow the instructions for filling comments provided below.

In the EA we ¹ will discuss impacts that could occur as a result of the construction and operation of the proposed project.

¹ “We”, “us”, and “our” refer to the environmental staff of the Office of Energy Projects (OEP).

We will also evaluate possible alternatives to the proposed project or portions of the project, and make recommendations on how to lessen or avoid impacts on the various resource areas.

The EA will present our independent analysis of the issues. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified issues that we think deserve attention based on a preliminary review of the proposed facilities and the environmental information provided by Dominion. This preliminary list of issues may be changed based on your comments and our analysis.

• The installation of a 20,500 HP gas turbine generator may substantially increase air contaminant emissions from the Dominion Cove Point facility above currently permitted emission levels.

• The installation of a 20,500 HP gas turbine generator and two air separation units may increase noise levels at affected noise-sensitive areas (NSAs).

Public Participation

You can make a difference by providing us with your specific comments or concerns about the project. By becoming a commentator, your concerns will be addressed in the EA and considered by the Commission. You should focus on the potential environmental effects of the proposal, alternatives to the proposal and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket No. CP06-26-000.

• Mail your comments so that they will be received in Washington, DC, on or before February 6, 2006.

The Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding.² If you want to become an intervenor you must file a motion to intervene according to Rule 214 of the Commission's Rules of Practice and Procedure (18 CFR 385.214) (see Appendix).³ Only intervenors have the right to seek rehearing of the Commission's decision.

² Interventions may also be filed electronically via the Internet in lieu of paper. See the previous discussion on filing comments electronically.

³ The appendix referenced in this notice is not being printed in the Federal Register. Copies of the appendix was sent to all those receiving this notice in the mail.

Stakeholders and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who own homes within distances defined in the Commission's regulations of certain aboveground facilities.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E6-278 Filed 1-12-06; 8:45 am]

BILLING CODE 6717-01-P